DEPARTMENT OF ENERGY

Federal Energy Regulatory Commission

Combined Notice of Filings #1

Take notice that the Commission received the following electric corporate filings:

Docket Numbers: EC14-64-000.

Applicants: J.P. Morgan Ventures Energy Corporation, Panda-Brandywine, L.P.

Description: Application for Approval Pursuant to Section 203 of the Federal Power Act of J.P. Morgan Ventures Energy Corporation and Panda-Brandywine, L.P.

Filed Date: 3/5/14.

Accession Number: 20140305-5202.

Comments Due: 5 p.m. ET 3/26/14.

Take notice that the Commission received the following electric rate filings:

Docket Numbers: ER12-21-012; ER12-21-013.

Applicants: Nevada Power Company, Sierra Pacific Power Company, PacifiCorp, Agua Caliente Solar, LLC, Pinyon Pines Wind I, LLC, Pinyon Pines Wind II, LLC, Solar Star California XIX, LLC, Solar Star California XX, LLC, Topaz Solar Farms LLC, CalEnergy, LLC, CE Leathers Company, Del Ranch Company, Elmore Company, Fish Lake Power LLC, Salton Sea Power Generation Company, Salton Sea Power L.L.C., Vulcan/BN Geothermal Power Company, Yuma Cogeneration Associates.

Description: Supplement to December 31, 2013 and January 2, 2014 Notice(s) of Non-Material Change in Status of the NRG MBR Entity [Agua Caliente Solar, LLC].

Filed Date: 3/5/14.

Accession Number: 20140305-5201.

Comments Due: 5 p.m. ET 3/26/14.

Docket Numbers: ER14-1195-000.

Applicants: Provider Power CT, LLC.

Description: Supplement to January 29, 2014 Provider Power CT, LLC tariff filing.

Filed Date: 3/6/14.

Accession Number: 20140306-5088.

Comments Due: 5 p.m. ET 3/17/14.

Docket Numbers: ER14-1434-000.

Applicants: Southern California Edison Company.

Description: SGIA & Distribution Service Agreement with Victor Dry Farm Ranch B LLC to be effective 3/7/2014.

Filed Date: 3/6/14.

Accession Number: 20140306-5011.

Comments Due: 5 p.m. ET 3/27/14.

Docket Numbers: ER14-1435-000.

Applicants: PJM Interconnection, L.L.C.

Description: Revisions to OA Schedule 12/RAA Schedule 17 to remove CCES & People's Power to be effective 12/31/9998.

Filed Date: 3/6/14.

Accession Number: 20140306-5061.

Comments Due: 5 p.m. ET 3/27/14.

Docket Numbers: ER14-1436-000.

Applicants: PJM Interconnection, L.L.C.

Description: Original Service Agreement No. 3769; Queue Nos. X2-025 & X4-019 to be effective 2/4/2014.

Filed Date: 3/6/14.

Accession Number: 20140306-5115.

Comments Due: 5 p.m. ET 3/27/14.

Docket Numbers: ER14-1437-000.

Applicants: PJM Interconnection, L.L.C.

Description: Queue Position Y1-033; Original Service Agreement No. 3771 to be effective 2/4/2014.

Filed Date: 3/6/14.

Accession Number: 20140306-5121.

Comments Due: 5 p.m. ET 3/27/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 6, 2014.
Nathaniel J. Davis, Sr.,
Deputy Secretary.

[FR Doc. 2014-05520 Filed 3-12-14; 8:45 am]

BILLING CODE 6717-01-P